DEPARTMENT OF THE TREASURY

Internal Revenue Service

Proposed Collection; Comment Request for Revenue Procedure 2004-46; Correction

AGENCY: Internal Revenue Service (IRS), Treasury.

ACTION: Correction to notice and request for comments.

SUMMARY: This document corrects a notice and request for comments that was published in the Federal Register on Wednesday, August 11, 2004 (69 FR 48913) that invites the general public and other Federal agencies to comment on proposed and/or continuing information collections.

FOR FURTHER INFORMATION CONTACT: Carol Savage at (202) 622-3945 (not a toll-free number).

SUPPLEMENTARY INFORMATION:

Background

The notice and request for comments that is the subject of these corrections are required by the Paperwork Reduction Act of 1995, Public Law 104-13 (44 U.S.C. 3506(c)(2)(A)).

Need for Correction

As published, the comment request for Revenue Procedure 2004-46, contains errors which may prove to be misleading and are in need of clarification.

Correction of Publication

Accordingly, the notice and request for comments which was the subject of FR Doc. 04-18374 is corrected as follows:

1. On page 48913, column 1, in the heading, the subject line “Proposed Collection; Comment Request for Revenue Procedure 2004-45” is corrected to read “Proposed Collection; Comment Request for Revenue Procedure 2004-46”.

2. On page 48913, column 1, under the caption “Summary”, line 13, the language “Revenue Procedure 2004-45, Relief” is corrected to read “Revenue Procedure 2004-46, Relief”.

3. On page 48913, column 2, under the caption “Supplementary Information”, line 4, the language “Procedure 2004-45.” is corrected to read “Procedure 2004-46.”.

4. On page 48913, column 2, under the caption “Supplementary Information”, line 5, the language “Abstract: Revenue Procedure 2004-45” is corrected to read “Abstract: Revenue Procedure 2004-46”.

LaNita Van Dyke,
Acting Chief, Publications and Regulations Branch, Legal Processing Division, Associate Chief Counsel (Procedures and Administration).

[FR Doc. 04-19164 Filed 8-19-04; 8:45 am]

BILLING CODE 4830-01-P